DEPARTMENT OF COMMERCE

International Trade Administration

[A-533-877, A-570-064]

Stainless Steel Flanges From India and the People's Republic of China: Postponement of Preliminary Determinations in the Less-Than-Fair-Value Investigations

AGENCY: Enforcement and Compliance, International Trade Administration, Department of Commerce.

DATE: Applicable January 9, 2018.

FOR FURTHER INFORMATION CONTACT: Courtney Canales at (202) 482-4997 (India) and Ian Hamilton at (202) 482-4798 (the People's Republic of China (China)), AD/CVD Operations, Enforcement and Compliance, International Trade Administration, U.S. Department of Commerce, 1401 Constitution Avenue NW, Washington, DC 20230.

SUPPLEMENTARY INFORMATION:

Background

On September 5, 2017, the Department of Commerce (Commerce) initiated less-than-fair-value (LTFV) investigations of imports of stainless steel flanges from India and China.¹ Currently, the preliminary determinations are due no later than January 23, 2018.

¹ See Stainless Steel Flanges from India and the People's Republic of China: Initiation of Less-Than-Fair-Value Investigations, 82 FR 42649 (September 11, 2017).

Postponement of Preliminary Determinations

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) The petitioners ² submit a timely request for a postponement; or (B) Commerce concludes that the parties concerned are cooperating, that the investigation is extraordinarily complicated, and that additional time is necessary to make a preliminary determination. Under 19 CFR 351.205(e), the petitioners must submit a request for postponement 25 days or more before the scheduled date of the preliminary determination and must state the reasons for the request. Commerce will grant the request unless it finds compelling reasons to deny the request.

² The petitioners are the Coalition of American Flange Producers and its individual members, Core Pipe Products, Inc. and Maass Flange Corporation.

On December 18, 2017, the petitioners submitted a timely request that Commerce postpone the preliminary determinations in these LTFV investigations.³ The petitioners stated that they request postponement “in order to ensure that {Commerce} has sufficient time to review all questionnaire responses and request clarification and/or additional information as necessary, so that the preliminary determinations will reflect the most accurate results possible.” ⁴

³ See the Petitioners' Letter, “Stainless Steel Flanges from India: the Petitioners' Request to Extend the Preliminary Determination,” dated December 18, 2017; Petitioners' Letter, “Stainless Steel Flanges from the People's Republic of China: the Petitioners' Request to Extend the Preliminary Determination,” dated December 18, 2017.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than March 14, 2018. In accordance with section 735(a)(1) of the Act and 19 CFR 351.210(b)(1), the deadline for the final determinations of these investigations will continue to be 75 days after the date of publication of the preliminary determinations, unless postponed at a later date.

This notice is issued and published pursuant to section 733(c)(2) of the Act and 19 CFR 351.205(f)(1).

Dated: January 3, 2018.
Christian Marsh,
Deputy Assistant Secretary for Enforcement and Compliance.

[FR Doc. 2018-00189 Filed 1-8-18; 8:45 am]

BILLING CODE 3510-DS-P